NATIONAL SCIENCE FOUNDATION

Advisory Committee for Mathematical and Physical Sciences; Notice of Meeting

In accordance with Federal Advisory Committee Act (Pub. L. 92-463, as amended), the National Science Foundation announces the following meeting:

Name: Advisory Committee for Mathematical and Physical Sciences (66).

Dates/Time: May 9, 2002, 8:30 am-6 pm; May 10, 2002, 8:30 am-3 pm.

Place: May 9, 2002, Stafford Building II, Room 555, 4121 Wilson Boulevard, Arlington, VA; May 10, 2002, 4201 Wilson Boulevard, Arlington, VA, Room 1235.

Type of Meeting: Open.

Contact Person: Dr. Morris L. Aizenman, Senior Science Associate, Directorate for Mathematical and Physical Sciences, Room 1005, National Science Foundation, 4201 Wilson Boulevard, Arlington, VA 22230. (703) 292-8807.

Purpose of Meeting: To provide advice and recommendations concerning NSF science and education activities within the Directorate for Mathematical and Physical Sciences.

Agenda: Briefing on current status of Directorate; Review by MPSAC of Committee of Visitors Report for The Division of Astronomical Sciences; Review by MPSAC of Committee of Visitors Report for the Division of Materials Research; Meeting of MPSAC with Divisions within MPS Directorate; Review by MPSAC of Homeland Defense Draft Report.

Summary Minutes: May be obtained from the contact person listed above.

Dated: April 8, 2002.
Susanne Bolton,
Committee Management Officer.

[FR Doc. 02-8958 Filed 4-11-02; 8:45 am]

BILLING CODE 7555-01-M